DEPARTMENT OF HEALTH AND HUMAN SERVICES

National Institutes of Health

National Institute of Diabetes and Digestive and Kidney Diseases; Amended Notice of Meeting

Notice is hereby given of a change in the meeting of the National Diabetes and Digestive and Kidney Diseases Advisory Council, January 29, 2020, 8:30 a.m. to 4:30 p.m., National Institutes of Health, Building 31, C Wing 6th Floor, 31 Center Drive, Bethesda, MD 20892, which was published in the Federal Register on September 12, 2019, 84 FR 48155.

The meeting notice is amended to change the meeting date and location from January 29, 2020, National Institutes of Health, Building 31, C Wing 6th Floor, 31 Center Drive, Bethesda, MD 20892, to January 30, 2020, National Institutes of Health, Natcher Building, Conference Rooms E1 & E2, 45 Center Drive, Bethesda, MD 20892. The meeting is partially Closed to the public.

Dated: January 6, 2020.
Miguelina Perez,
Program Analyst, Office of Federal Advisory Committee Policy.

[FR Doc. 2020-00194 Filed 1-9-20; 8:45 am]

BILLING CODE 4140-01-P